DEPARTMENT OF ENERGY

Federal Energy Regulatory Commission

Notice of Technical Conference

October 29, 2004.

Connecticut Transmission Infrastructure: Docket No. PL04-14-000.

New England Power Pool: Docket No. ER03-1141-003; and ISO New England, Inc.

Devon Power LLC, et al.: Docket Nos. EL04-102-001, EL04-102-002, ER03-563-018, ER03-563-021, ER03-563-025, ER03-563-026, ER03-563-027, ER03-563-028, ER03-563-033, ER03-563-036, ER03-563-038, ER03-563-039, ER03-563-043, ER04-464-002, ER04-464-005, ER04-464-006.

Exelon New Boston LLC: Docket No. ER04-344-001.

ISO New England Inc.: Docket Nos. EL00-62-055, ER02-2463-003.

Mirant Kandall, LLC: Docket Nos. ER03-998-001, ER03-998-002.

PPL Wallingford Energy LLC, et al.: Docket Nos. ER03-421-007, ER03-421-008.

New England Power Pool Participants: Docket No. ER03-345-003.

New England Power Pool: Docket Nos. ER02-2330-009, ER02-2330-026, ER02-2330-027, ER02-2330-028, ER02-2330-029.

Take notice that the Federal Energy Regulatory Commission will host a technical conference on Tuesday, January 6, 2005, to discuss specific transmission proposals and cost issues for the State of Connecticut. The workshop will be held in Room 2C of the Legislative Office Building, 300 Capitol Avenue, Hartford, Connecticut. The workshop is scheduled to begin at 9 a.m. and end at approximately 3 p.m. (eastern time). The Commissioners will attend and participate.

This meeting is a follow-up to the infrastructure conference that was held on October 13, 2004. The goal of the technical conference is to provide a forum for discussion of issues affecting energy infrastructure in and around Connecticut. This discussion will take place between Federal, State and regional leaders and industry representatives. The January 6 conference will focus primarily on proposals for new electric transmission, and the costs of these proposals. An agenda is forthcoming.

The conference is a technical discussion between policy leaders, which members of the public are welcome to attend. Registration is not required; however, in-person attendees are asked to register for the conference on-line by close of business on Friday, January 2, 2005, at http://www.ferc.gov/whats-new/registration/infra-0106-form.asp.

Transcripts of the conference will be immediately available from Ace Reporting Company ((202) 347-3700 or 1-800-336-6646) for a fee. They will be available for the public on the Commission's eLibrary system seven calendar days after FERC receives the transcript. Additionally, Capitol Connection offers the opportunity for remote listening of the conference via Real Audio or a Phone Bridge Connection for a fee. Persons interested in making arrangements should contact David Reininger or Julia Morelli at the Capitol Connection (703) 993-3100 as soon as possible or visit the Capitol Connection Web site at http://www.capitolconnection.org and click on “FERC.”

For more information about the conference, please contact Sarah McKinley at (202) 502-8004, sarah.mckinley@ferc.gov.

Magalie R. Salas,
Secretary.

[FR Doc. E4-3063 Filed 11-5-04; 8:45 am]

BILLING CODE 6717-01-P